FEDERAL COMMUNICATIONS COMMISSION

Notice of Public Information Collection(s) Being Submitted for Review to the Office of Management and Budget

May 21, 2007.

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before June 29, 2007. If you anticipate that you will be submitting PRA comments, but find it difficult to do so within the period of time allowed by this notice, you should advise the FCC contact listed below as soon as possible.

ADDRESSES: Direct all PRA comments to Jasmeet K. Seehra, Office of Management and Budget, Room 10236 NEOB, Washington, DC 20503, (202) 395-3123 or via fax at 202-395-5167 or via Internet at Jasmeet_K._Seehra@omb.eop.gov and to Judith-B. Herman@fcc.gov, Federal Communications Commission, Room 1-B441, 445 12th Street, SW., DC 20554 or an e-mail to PRA@fcc.gov. If you would like to obtain or view a copy of this information collection, you may do so by visiting the FCC PRA web page at: http://www.fcc.gov/omd/pra.

FOR FURTHER INFORMATION CONTACT: For additional information or copies of the information collection(s), contact Judith B. Herman at 202-418-0214 or via the Internet at Judith-B.Herman@fcc.gov.

SUPPLEMENTARY INFORMATION: OMB Control Number: 3060-1003.

Title: Communications Disaster Information Reporting System (DIRS).

Form No.: N/A.

Type of Review: Revision of a currently approved collection.

Respondents: Business or other for-profit and not-for-profit institutions, Federal Government, and state, local or tribal government.

Number of Respondents: 5,300 respondents; 5,300 responses.

Estimated Time Per Response: .1-.50 hours.

Frequency of Response: On occasion reporting requirement and other—as needed to update critical infrastructure and key resources.

Obligation to Respond: Voluntary.

Total Annual Burden: 3,710 hours.

Total Annual Cost: N/A.

Privacy Act Impact Assessment: N/A.

Nature and Extent of Confidentiality: The Commission agrees with the comments received from AT&T, Verizon, Wireless, and T-Mobile that it is consistent with the primary objective of the DIRS to treat filings as confidential. The Commission will work with commenters and other respondents to ensure that their concerns regarding the confidentiality of DIRS filings are resolved in a manner consistent with the Commission's rules.

Needs and Uses: The Commission will submit this information collection to OMB as a revision during this comment period to obtain the full three-year clearance from them. The Commission has revised the number of respondents/responses and burden hours since this was last submitted to OMB. For this submission to OMB, the Commission has changed this information collection from a telephone call that the Commission made to key communications providers to a Disaster Information Reporting System (DIRS) database in which wireless, wireline, broadcast, cable and satellite companies will voluntarily enter emergency contact information. In the event of an actual emergency, respondents may also enter infrastructure and network status and damage information and/or requests for resources into the DIRS database. Also in the event of an emergency, Commission staff may contact those companies.

The Commission needs to revise this information collection in order to perform its homeland security and public safety functions as required by the Communications Act of 1934, as amended, as well as to coordinate DIRS data with the Department of Homeland Security (DHS) and its component National Communications System (NCS) in support of NCS's role as the primary agency for Emergency Support Function-2 (ESF-2) (Communications) of the National Response Plan (NRP).

Federal Communications Commission.
Marlene H. Dortch,
Secretary.

[FR Doc. E7-10345 Filed 5-29-07; 8:45 am]

BILLING CODE 6712-01-P